DEPARTMENT OF HEALTH AND HUMAN SERVICES

Centers for Disease Control and Prevention

Advisory Committee on Immunization Practices: Meeting

In accordance with section 10(a)(2) of the Federal Advisory Committee Act (Pub. L. 92-463), the Centers for Disease Control and Prevention (CDC) announces the following Federal Committee meeting.

Correction: This notice was published in the Federal Register on June 9, 2006, volume 71, number 111, pages 33456-33457. “Additional Information” that was published on April 3, 2006, volume 71, number 63, page 16582, and a change to the ‘status’ has been added.

Name: Advisory Committee on Immunization Practices (ACIP).

Times and Dates:

8 a.m.-6 p.m., June 29, 2006.

8 a.m.-4 p.m., June 30, 2006.

Place: Centers for Disease Control and Prevention, 1600 Clifton Road, NE., Building 19 (Global Communications Center), Room 232, Atlanta, Georgia 30333.

Status: Open to the public, limited only by the space available. Meeting space accommodates approximately 330 people. Overflow space for real-time viewing will be available.

Additional Information: In order to expedite the security clearance process at the CDC Clifton Road Campus, all ACIP attendees are now required to register online at http://www.cdc.gov/nip/acip, which can be found under the “Upcoming Meetings” tab. Please be sure to complete all the required fields before submitting your registration and submit no later than June 22, 2006.

Please Note: All non-U.S. Citizens must pre-register by June 18, 2006 or they will not be allowed access to the campus and will not be allowed to register on site. All non-U.S. Citizens are required to complete the “Access Request Form” and register online at http://www.cdc.gov/nip/acip. The access request form can be obtained by contacting Demetria Gardner at 1-404-639-8836 and should be e-mailed upon completion directly to Ms. Gardner at dgardner@cdc.gov.

For Further Information Contact: Demetria Gardner, Immunization Services Division, National Center for Immunization and Respiratory Diseases (proposed), CDC, 1600 Clifton Road, NE., (E-05), Atlanta, Georgia 30333, telephone 404/639-8836, fax 404/639-8905.

The Director, Management Analysis and Services Office, has been delegated the authority to sign Federal Register notices pertaining to announcements of meetings and other committee management activities for both the CDC and the Agency for Toxic Substances and Disease Registry.

Dated: June 8, 2006.
B. Kathy Skipper,
Acting Director, Management Analysis and Services Office, Centers for Disease Control and Prevention.

[FR Doc. E6-9266 Filed 6-13-06; 8:45 am]

BILLING CODE 4163-18-P